Proclamation 9039 of October 10, 2013

International Day of the Girl, 2013

By the President of the United States of America

A Proclamation

From Asia to Europe, from Africa to the Americas, nations that have embraced the ideals of equality and inclusion have emerged more stable, peaceful, and prosperous. When countries empower girls to pursue their dreams, they not only fulfill a basic moral obligation, they also realize more fully their social and economic potential. Over the past few decades, the global community has made great progress in increasing opportunity and equality for women and girls, but far too many girls face futures limited by violence, social norms, educational barriers, and even national law. On International Day of the Girl, we stand firm in the belief that all men and women are created equal, and we advance the vision of a world where girls and boys look to the future with the same sense of promise and possibility.

My Administration is committed to expanding opportunity for girls on the world stage. We are promoting gender equality in education, cracking down on human trafficking, and working to empower women and girls to contribute in the workplace and in public life. Building on my challenge to the United Nations in September 2011, a broad coalition of countries and organizations has joined the United States in forming the Equal Futures Partnership, an international effort to break down barriers to the economic and political empowerment of women and girls. We are working to break the cycle of poverty by educating and empowering girls, including through a new global outreach and engagement campaign. We are funding programs to encourage girls around the world to pursue careers in science and technology. And because child marriage is a threat to fundamental human rights, my Administration has strengthened reporting and launched several initiatives to prevent child marriage.

At home, we are leading by example. We are encouraging girls to pursue degrees and careers in science, technology, engineering, and mathematics—fields that will allow them to drive innovation while working in the high-paying jobs of the future. We are funding evidence-based strategies to reduce teen pregnancy in the United States, and we are also motivating girls to become leaders—from hosting the first-ever White House conference on girls' leadership and civic engagement to sponsoring an app challenge to spur new ways to inspire girls to become leaders in government.

As we observe this day, there is a girl in an unknown country who will grow to spark the next great scientific revolution, but only if she gets a shot at a higher education. Across the globe there are girls who will one day lead nations, if only we afford them the chance to choose their own destinies. And on every continent, there are girls who will go on to change the world in ways we can only imagine, if only we allow them the freedom to dream.

NOW, THEREFORE, I, BARACK OBAMA, President of the United States of America, by virtue of the authority vested in me by the Constitution and the laws of the United States, do hereby proclaim October 11, 2013, as International Day of the Girl. I call upon all Americans to observe this day with programs, ceremonies, and activities that advance equality and opportunity for girls everywhere.

IN WITNESS WHEREOF, I have hereunto set my hand this tenth day of October, in the year of our Lord two thousand thirteen, and of the Independence of the United States of America the two hundred and thirty-eighth.

[FR Doc. 2013-24503

Filed 10-15-13; 8:45 am]

Billing code 3295-F4